DEPARTMENT OF HEALTH AND HUMAN SERVICES

Administration for Children and Families

Submission for Office of Management and Budget (OMB) Review; Advance Planning Document (APD) Process (OMB #0970-0417)

AGENCY: Office of Child Support Services; Administration for Children and Families, Department of Health and Human Services.

ACTION: Request for public comments.

SUMMARY: The Administration for Children and Families' (ACF) Office of Child Support Services (OCSS) requests a 3-year extension for the Advance Planning Document (APD) process (OMB #0970-0417). No changes are proposed.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: State child support agencies are required to establish and operate a federally approved statewide Automated Data Processing (ADP) and information retrieval system to assist in child support services. The APD process, established at 45 CFR part 95, subpart F, is the procedure by which states request and obtain approval for Federal Financial Participation (FFP) in their cost of acquiring ADP equipment and services. The ACF OCSS Division of State and Tribal Systems (DSTS) oversees this process.

States are required to submit an initial APD, containing information to assist the Secretary of the Department of Health and Human Services (HHS) in determining if the state computerized support enforcement project planning and implementation meets federal certification requirements for approving FFP. States are then required to submit annual APD updates to HHS to report project status and request ongoing FFP for systems development, enhancements, operations, and maintenance. As-needed APDs are also submitted to acquire FFP when major milestones are missed or significant changes to project schedules occur. Based on an assessment of the information provided in the APD, states that do not meet the federal requirements necessary for approval are required to conduct periodic independent verification and validation services for high-risk project oversight.

In addition to the APDs providing HHS/ACF/OCSS with the information necessary to determine the allowable level of federal funding for state systems projects, states also submit associated procurement and data security documents, such as requests for proposals (RFPs), contracts, contract amendments, and the biennial security review reports.

Respondents: State child support agencies.

Annual Burden Estimates
Instrument | Total number of respondents | Total number of responses per respondent | Average burden hours per response | Total burden hours | Annual burden hours
RFP and Contract | 50 | 4.5 | 4 | 900 | 300
Emergency Funding Request | 21 | 1 | 2 | 42 | 14
Biennial Reports | 54 | 1.5 | 1.5 | 121.5 | 40.5
Advance Planning Document | 44 | 3.6 | 120 | 19,008 | 6,336
Operational Advance Planning Document | 10 | 3 | 30 | 900 | 300
Independent Verification and Validation (ongoing) | 3 | 12 | 10 | 360 | 120
Independent Verification and Validation (semiannually) | 4 | 6 | 16 | 384 | 128
Independent Verification and Validation (quarterly) | 10 | 12 | 30 | 3,600 | 1,200
System Certification | 3 | 3 | 240 | 2,160 | 720

Estimated Total Annual Burden Hours: 9,158.50.

Authority: 45 CFR part 95, subpart F.

Mary B. Jones,
ACF/OPRE Certifying Officer.

[FR Doc. 2024-02166 Filed 2-2-24; 8:45 am]

BILLING CODE 4184-41-P